DEPARTMENT OF AGRICULTURE

Submission for OMB Review; Comment Request

April 11, 2017.

The Department of Agriculture has submitted the following information collection requirement(s) to OMB for review and clearance under the Paperwork Reduction Act of 1995, Public Law 104-13. Comments are required regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by May 15, 2017 will be considered. Written comments should be addressed to: Desk Officer for Agriculture, Office of Information and Regulatory Affairs, Office of Management and Budget (OMB), New Executive Office Building, 725 17th Street NW., Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Farm Service Agency

Title: Guaranteed Farm Loans.

OMB Control Number: 0560-0155.

Summary of Collection: The Consolidated Farm and Rural Development Act (CONACT), as amended, authorize the Secretary of Agriculture to make and service loans guaranteed by the Farm Service Agency (FSA) to eligible farmers and ranchers. The statutory authority for the guaranteed loan program is set out in the Code of Federal Regulations, title 7, chapter VII, part 762. The loans made and serviced under part 762 include farm operating, farm ownership loans. FSA also provides guarantees of loans made by private sellers of a farm or ranch on a land contract sales basis. The reporting requirements imposed on the public by the regulations at 7 CFR part 763 are necessary to administer the Land Contract guaranteed loan program in accordance with statutory requirements of the CONACT as specified in the 2008 Farm Bill. FSA uses Agency forms and written evidence to collect needed information. FSA is also establishing the EZ Guarantee Program that is providing a guarantee for operating loans (OLs) and Farm ownerships (FOs) up to $50,000, and implementing the Micro Lender Program (MLP) status for the nontraditional lenders to participate in the Guaranteed ML Program.

Need and Use of the Information: The basis objective of the guaranteed loan program is to provide credit to applicants who are unable to obtain credit from lending institutions without a guarantee. The information collected is used to determine lender and loan applicant eligibility for farm loan guarantees, and to ensure the lender protects the government's financial interest. The information FSA collects is needed to effectively administer the FSA guaranteed farm loan programs. The information is collected by the FSA loan official in consultation with participating lenders.

Description of Respondents: Farms; Business or other for-profit.

Number of Respondents: 14,393.

Frequency of Responses: Reporting: Other (when applying for loans).

Total Burden Hours: 220,838.

Ruth Brown,
Departmental Information Collection Clearance Officer.

[FR Doc. 2017-07566 Filed 4-13-17; 8:45 am]

BILLING CODE 3410-05-P